DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

The Persistent Effects of Treatment Studies (PETS)—(OMB No. 0930-0202, revision)—SAMHSA's Center for Substance Abuse Treatment (CSAT) is requesting an extension and revision of OMB approval to allow for completion of data collection in two studies being conducted under the PETS program. CSAT has developed PETS as a family of coordinated studies that evaluates the outcomes of drug and alcohol treatment received through a wide range of publicly funded programs. Populations being studied are diverse in the nature and severity of their substance abuse and in their personal characteristics and circumstances. The conceptual underpinning of the PETS studies is a recognition that substance abuse disorders, while variable in their manifestations, are often chronic and prone to relapse. PETS focuses on the longitudinal course of substance abuse and treatment. While most previous outcome studies in the field have examined changes taking place for only several months after a particular treatment episode, PETS looks at outcomes over a longer time period of three years or more. In the context of the client's life history, careful attention has been given to the stage in his or her experience of substance abuse and treatment to what has preceded their current treatment episode, and to any sequence of aftercare, relapse, and subsequent treatment that may follow.

The PETS Chicago study continues data collection activities initiated under a grant to local investigators as part of CSAT's Target Cities project. This study will collect two- to six-year treatment followup data on a sample of clients originally assessed for treatment services at any of 22 service delivery units on Chicago's West Side. An interview 72 months after admission to treatment is being added for one of the two study cohorts.

The PETS Longer-term Adolescent Study builds upon CSAT's adolescent substance abuse treatment outcome studies in the Adolescent Treatment Models (ATM) and Cannabis Youth Treatment (CYT) grant programs. This study includes all four CYT sites and three first-round ATM sites, and will collect followup interviews for as long as 30 months after admission to treatment. The extension will allow completion of data collection in the last three sites.

CSAT is conducting these studies in order to develop a better understanding of the longer-term outcomes for adults and adolescents receiving substance abuse treatment and factors that influence these outcomes. The information will be used to refine treatment approaches for these populations. The tables that follow summarize the burden for the one-year period of data collection for which approval will be sought.

Adult study | Number of respondents: 48-month interview | Number of respondents: 60-month interview | Number of respondents: 72-month interview | Responses/respondent | Burden/response (hours) | Total burden (hours)
Chicago | 15 | 229 | 289 | 1 | 1.5 | 801

Adolescent studies | Number of respondents: 24-month | Number of respondents: 30-month | Responses/respondent | Burden/response (hours) | Total burden (hours)
3 site total | 30 | 183 | 1 | 1.85 | 395

Written comments and recommendations concerning the proposed information collection should be sent within 30 days of this notice to: Lauren Wittenberg, Human Resources and Housing Branch, Office of Management and Budget, New Executive Office Building, Room 10235, Washington, D.C. 20503.

Dated: May 28, 2002.
Richard Kopanda,
Executive Officer, SAMHSA.

[FR Doc. 02-14017 Filed 6-4-02; 8:45 am]

BILLING CODE 4162-20-P